DEPARTMENT OF TRANSPORTATION

Federal Aviation Administration

First Meeting, Special Committee 215 Aeronautical Mobile Satellite (Route) Services Next Generation Satellite Services and Equipment

AGENCY: Federal Aviation Administration (FAA), DOT.

ACTION: Notice of RTCA Special Committee 215, Aeronautical Mobile Satellite (Route) Services, Next Generation Satellite Services and Equipment.

SUMMARY: The FAA is issuing this notice to advise the public of a first meeting of RTCA Special Committee 215, Aeronautical Mobile Satellite (Route) Services, Next Generation Satellite Services and Equipment.

DATES: The meeting will be held May 22-24, 2007 at 10 a.m.

ADDRESSES: The meeting will be held at RTCA, Inc., 1828 L Street, NW., Suite 805, Washington, DC 20036.

FOR FURTHER INFORMATION CONTACT: RTCA Secretariat, 1818 L Street, NW., Suite 805, Washington, DC 20036; telephone (202) 833-9339; fax (202) 833-9434; Web site http://www.rtca.org for directions.

SUPPLEMENTARY INFORMATION: Pursuant to section 10(a)(2) of the Federal Advisory Committee Act (Pub. L. 92-463, 5 U.S.C., Appendix 2), notice is hereby given for a Special Committee 215 meeting. The agenda will include:

• May 22-24:

• Opening Plenary Session (Welcome, Introductions, and Administrative Remarks, Agenda Review).

• David Robinson (FAA)—DFO.

• Overview of activity background.

• Revision of ICAO AMS (R)S SARPs—Summary.

• Review of Authorizing Document (Terms of Reference), RTCA paper 057-07/PMC-519, March 8, 2007.

• Discussion of and action of Terms of Reference (TOR) item 6.A and 6.B by Industry, FAA and other participants.

• By September 28, 2007, determine if recent changes to the AMS(R)S SARPs require modification of DO-262 by means of an attachment to DO-262.

• By September 28, 2007, determine if recent changes to the AMS(R)S SARPs require modification of DO-270.

• FAA discussion on issues relating to Electromagnetic Compatibility/Interference with GNSS, AMSS, Radio Astronomy.

• Discussion of and action on Terms of Reference it 6.C and 6.D, if necessary.

• If changes are recommended to DO-262, proceed immediately to develop a plan on what changes are necessary and how changes should be incorporated into DO-262.

• If changes are recommended to DO-270, proced immediately to develop a plan on what changes are necessary and how changes should be incorporated into DO-270.

• Schedule Next Meeting.

• If changes are necessary, future meetings should facilitate presentation of revised documents to the FRAC not later than May 2008.

• If changes are not deemed necessary, create and approve short report to PMC stating reasons why and informing PMB that the Terms of Reference are complete.

• Closing Plenary Session (Other Business, Establish Agenda, Adjourn).

Attendance is open to the interested public but limited to space availability. With the approval of the chairmen, members of the public may present oral statements at the meeting. Persons wishing to present statements or obtain information should contact the person listed in the FOR FURTHER INFORMATION CONTAC section. Members of the public may present a written statement to the committee at any time.

Issued in Washington, DC, on April 19, 2007.
Francisco Estrada C.,
RTCA Advisory Committee.

[FR Doc. 07-2053 Filed 4-25-07; 8:45 am]

BILLING CODE 4910-13-M